DEPARTMENT OF THE TREASURY

Office of Thrift Supervision

[AC-3: OTS Nos. H-3859 and 15953]

Pacific Trust Bank, Chula Vista, CA; Approval of Conversion Application

Notice is hereby given that on, May 15, 2002, the Director, Examination Policy, Office of Thrift Supervision (“OTS”), or her designee, acting pursuant to delegated authority, approved the application of Pacific Trust Bank, Chula Vista, California, to convert to the stock form of organization. Copies of the application are available for inspection by appointment (phone number: 202-906-5922 or e-mail: Public.Info@OTS.Treas.gov) at the Public Reading Room, OTS, 1700 G Street, NW, Washington, DC 20552, and the OTS West Regional Office, Pacific Plaza, 2001 Junipero Serra Boulevard, Suite 650, Daly City, California 94014-1976.

Dated: May 17, 2002.
By the Office of Thrift Supervision,
Nadine Y. Washington,
Corporate Secretary.

[FR Doc. 02-12791 Filed 5-21-02; 8:45 am]

BILLING CODE 6720-01-M